DEPARTMENT OF DEFENSE

Department of the Navy

Notice of Availability of Government-Owned Inventions; Available for Licensing

AGENCY: Department of the Navy, DoD.

ACTION: Notice.

SUMMARY: The inventions listed below are assigned to the U.S. Government as represented by the Secretary of the Navy and are available for domestic licensing by the Department of the Navy.

The following patents are available for licensing: Patent Application No: 13/998,207ASSEMBLE MODULE CHARGE SYSTEM//

Patent Application No 13/998,208: MODULE CHARGE SYSTEM.

ADDRESSES: Requests for copies of the Patent Applications cited should be directed to Dr. John Scott Deiter, Head, Technology Transfer Office, Code CAB, Naval Surface Warfare Center, 3824 Strauss Avenue, Suite 108, 1st Floor, Indian Head, MD 20640-5152.

FOR FURTHER INFORMATION CONTACT: Dr. John Scott Deiter, Head, Technology Transfer Office, Code CAB, Naval Surface Warfare Center, 3824 Strauss Avenue, Suite 108, 1st Floor, Indian Head, MD 20640-5152, telephone 301-744-6111.

Dated: May 19, 2014.
N.A. Hagerty-Ford,
Commander, Office of the Judge Advocate General, U.S. Navy, Federal Register Liaison Officer.

[FR Doc. 2014-12447 Filed 5-28-14; 8:45 am]

BILLING CODE 3810-FF-P